NATIONAL SCIENCE FOUNDATION

Proposal Review Panel for Ocean Sciences; Notice of Meeting

In accordance with the Federal Advisory Committee Act (Pub. L. 92-463, as amended), the National Science Foundation (NSF) announces the following meeting:

Name and Committee Code: Proposal Review Panel for Ocean Sciences (#10752)—Gump Research Station Site Visit.

Date and Time: June 24, 2019, 10:00 a.m. to 5:30 p.m., June 25, 2019, 8:00 a.m. to 6:30 p.m., June 26, 2019, 8:00 a.m. to 4:30 p.m., June 27, 2019, 8:00 a.m. to 2:00 p.m.

Place: Gump Research Station, UCB, BP 244, Maharepa—98728, Moorea, French Polynesia.

Type of Meeting: Part-Open.

Contact Person: David Garrison, Program Director, Division of Ocean Science; National Science Foundation, 2415 Eisenhower Avenue, Alexandria, VA 22314; Telephone: (703) 292-7588.

Purpose of Meeting: Mandatory mid-term site-review of the Moorea Coral Reef Long-term Ecological Research (LTER) site.

Agenda: Site visit to provide guidance and advice to site and feedback to NSF regarding progress of the Moorea Coral Reef LTER site.

Moorea Coral Reef (MCR) Site Review

June 24, 2019

10:00 Transit from Tahiti to Moorea.

1:00-2:00—Welcome to Gump station/orientation (Open).

2:00-3:00—Preparation for field trips (Open).

3:00-4:00—NSF meeting with Mid Term Review Panel (Closed).

4:00-5:30—Overview of MCR LTER (Open).

June 25, 2019

8:00-12:00—Field Trip 1 (Closed).

1:00-4:30—Research Presentations (Open).

4:30-5:30—Demonstrations—MCR dry lab and wet lab (Closed).

5:30-6:30—Graduate student/Post doc poster session (Open).

June 26, 2019

8:00-12:00—Field Trip 2 (Closed).

1:00-4:30—Site presentations (Open).

June 27, 2019

8:00-12:00—Mid Term Review panel report (Closed).

1:00-2:00—Report to MCR (Closed).

2:00—End of Site Review.

Reason for Closing: Topics to be discussed and evaluated during closed portions of the site review will include information of a proprietary or confidential nature, including technical and financial information and information on personnel. These matters are exempt under 5 U.S.C. 552b(c), (4) and (6) of the Government in the Sunshine Act.

Dated: April 29, 2019.
Crystal Robinson,
Committee Management Officer.

[FR Doc. 2019-09003 Filed 5-2-19; 8:45 am]

BILLING CODE 7555-01-P